DEPARTMENT OF DEFENSE

Department of the Army, Corps of Engineers

Notice of Virtual Public and Tribal Meetings Regarding the U.S. Army Corps of Engineers Civil Works Environmental Justice Strategic Plan and Vision, Establishment of a Public Docket, Request for Input

AGENCY: Department of the Army, Corps of Engineers, DoD.

ACTION: Notice; announcement of virtual public and Tribal meeting dates and solicitation of input.

SUMMARY: Pursuant to the Executive order, “Revitalizing our Nation's Commitment to Environmental Justice for All”, the U.S. Army Corps of Engineers (Corps) is preparing its Environmental Justice Strategic Plan for the Civil Works programs. As part of that effort, the Corps is soliciting feedback on its Draft Environmental Justice Strategic Plan vision, goals, and objectives. The Corps is also soliciting input on priority actions and performance metrics that will be evaluated to advance the Draft Environmental Justice Strategic Plan vision, goals, and objectives. The Environmental Justice Strategic Plan will be a living document that is periodically updated, and comments will be therefore accepted any time at the email address listed below.

DATES: To be considered for this 2024 Environmental Justice Strategic Plan, written recommendations must be received on or before Tuesday, October 1st, 2024. The Corps will hold public virtual meetings on the following dates: September 17th and September 19th. In addition, the Corps will hold Tribal virtual meetings on the following dates: September 18th.

Tribal Nations may request consultation through October 15. Written comments from Tribal Nations will be accepted until October 22. Please refer to the SUPPLEMENTARY INFORMATION section below for additional information on these virtual meetings.

ADDRESSES: You may send written feedback, identified by Docket ID No. COE-2024-0003, by any of the following methods:

• Federal eRulemaking Portal: https://www.regulations.gov/ (our preferred method). Follow the online instructions for submitting written feedback.

• Email: EJ_Strategic_Plan@usace.army.mil and Include Docket ID No. COE-2024-0003 in the subject line of the message.

• Mail: Joseph Redican, U.S. Army Corps of Engineers, HQ, Deputy Chief, Planning and Policy Division; Desk 3F94, 441 G Street NW, Washington, DC 20314, Include Docket ID No. COE-2024-0003 on the Letter Head.

• Hand Delivery/Courier: Due to security requirements, we cannot receive comments by hand delivery or courier.

Instructions: All submissions received must include Docket ID No. COE-2024-0003. Written feedback received may be posted without change to https://www.regulations.gov/, including any personal information provided. The Corps encourages the public to submit written feedback via https://www.regulations.gov/ or email, as there may be a delay in processing mail.

FOR FURTHER INFORMATION CONTACT: Jessica Ludy, Office of the Assistant Secretary of the Army for Civil Works at 1-415-732-9165 or by email at EJ_Strategic_Plan@usace.army.mil.

SUPPLEMENTARY INFORMATION:

I. Background:

Executive Order (E.O) 14096 directs Federal agencies to develop an Environmental Justice Strategic Plan that will, “set forth the agency's vision, goals, priority actions, and metrics to address and advance environmental justice and to fulfill the directives of [the E.O.], including through the identification of new staffing, policies, regulations, or guidance documents”, as well as “identify and address opportunities through regulations, policies, permits, or other means to improve accountability and compliance with any statute the agency administers that affects the health and environment of communities with environmental justice concerns (United States, Executive Office of the President, [Joseph Biden], Executive Order 14096: Revitalizing Our Nation's Commitment to Environmental Justice for All. Section 4. 26 April 2023).

When complete, the Draft Environmental Justice Strategic Plan will offer a vision to transform how the Corps works with communities in its Civil Works program. Overall, the Corps will integrate environmental justice principles into the foundational elements of the Corps Civil Works programs. This includes consideration of Federal Tribal trust responsibilities and any disproportionate impact on disadvantaged communities from Civil Works programs. This vision is reflected in the five goals and associated objectives outlined in this notice and include our People (the Corps workforce); our Projects, permits and other Corps work activities; our Partners (Tribes, communities, agencies, and other organizations with whom the Corps collaborates); our Processes (including the way the Corps conducts work activities and makes decisions); and our Policy (including the laws, authorities, and policies that require or inform Corps compliance). Public input received through this notice in the Federal Register will help the Corps identify ways to further institutionalize environmental justice. These five goals can help the Corps directly address any barriers to all communities' ability to enjoy the same degree of protections and equal access to Civil Works programs and services to achieve a healthy environment in which to live.

A. Draft Environmental Justice Strategic Plan Vision

It is the vision of the Corps to leverage our congressional authorities, our technical expertise, and our partnerships to ensure environmental justice principles and the Federal trust responsibility result in the Civil Works programs supporting all communities and enhancing their access to a healthy, sustainable, and resilient environment in which to live, play, work, learn, grow, worship, and engage in cultural and subsistence practices. It is the vision of the Corps to support all communities in enjoying the benefit of protection from natural hazards, environmental health and climate risks, and to also have meaningful input into Corps decisions that impact them. The Corps also aims to build and sustain a world-class, water resources workforce where Tribal Nations, U.S. Territories, and all communities with environmental justice concerns see themselves and their interests well represented, and want to partner with us to restore, and repair the nation's waterways for public, environmental, social, cultural, and economic benefits.

B. Draft Environmental Justice Strategic Plan Goal One: People

Recruit, retain, and train a workforce with the lived experience, expertise, and capacity to deliver the Corps mission in ways that advance environmental justice for all communities and protect our Federal trust responsibilities. Goal one will be accomplished through the following four objectives:

1. Consistent with merit system principles, develop a Corps workforce across all levels including junior staff and senior leaders, temporary and permanent staff, technical and operational staff that reflects the diversity of the American people. This includes targeted recruitment and outreach to people with lived experience of marginalization or environmental justice concerns and removing barriers to equal opportunity.

2. Foster a model workplace environment at the Corps where all employees are engaged, supported, heard, and empowered, with opportunities to learn, grow and excel during their career.

3. Provide workforce training and support for Corps staff to grow their environmental justice literacy and expertise, including how to incorporate environmental justice into the analysis of direct, indirect, and cumulative effects of proposed Federal actions or permits and to increase their understanding of Tribal sovereignty and the Federal trust responsibility.

4. Provide training and tools for staff on how to engage and communicate with Tribes and communities with environmental justice concerns in ways that foster mutual respect and trust, and in how to consider the information received during engagements in projects, decisions, and other Corps activities.

C. Draft Environmental Justice Strategic Plan Goal Two: Projects, Permits, and Other Corps Activities

Goal two of the Strategic Plan is to strive to conduct all Corps work within its authorities in ways that reduce disproportionate environmental burdens including human health effects across the landscape and improve environmental, economic, and social conditions in places and with communities with environmental justice concerns. Goal two will be accomplished through the following three objectives:

1. Prioritize resources (staff, funding, outreach) to efforts that will bring significant benefits with no group bearing a disproportionate burden of environmental harms and risks, including health burdens, in communities with environmental justice concerns, including in U.S. territories and across Tribal Nations.

2. Integrate best practices in equitable community engagement and the principles of Climate Resilience, Indigenous Knowledge, Nature Based Solutions, the Federal trust responsibility, and Environmental Justice into the Corps Civil Works planning and project delivery process, and into current (where practicable) and new work activities and decisions that affect communities. Fully consider the public input provided as part of all decision-making processes.

3. Evaluate relevant legal authorities to enhance the Corps ability to both identify impacts and implement alternative solutions or specific mitigation actions that will reduce adverse impacts on and increase benefits to communities with environmental justice concerns.

D. Draft Environmental Justice Strategic Plan Goal Three: Partnerships

As part of a whole-of-government approach, goal three focuses on investing in building the trusted partnerships and collaboration needed to advance environmental justice across the nation. Goal three will be accomplished through the following three objectives:

1. Build, nurture, repair, or rebuild trusted relationships with Tribal Nations and all communities with environmental justice concerns to enhance their ability to receive benefits and to reduce burdens related to Corps activities. Work together with them to anticipate environmental justice concerns before they arise and integrate preferences into solutions.

2. Build strategic partnerships and increase project-based collaboration with other agencies and organizations who can help advance environmental justice. These organizations may have specialized expertise, unique authorities that compliment Corps authorities to create a more complete or equitable project, and or may have pre-existing relationships with local Tribes and communities, or insight into community needs.

3. Continue to participate in and leverage opportunities through interagency committees and working groups on relevant topics to exchange knowledge and advance environmental justice. Example topics include community-driven relocation, issues of homelessness, nature-based solutions, environmental justice-focused trainings, etc.

E. Draft Environmental Justice Strategic Plan Goal Four: Policy and Process

Goal four of the Strategic Plan is to refine Corps policy, processes, and decision making to reduce disparate environmental burden including adverse health effects, to increase access to the benefits of Corps work activities, and to remove barriers to participation in decision-making for Tribal Nations and all communities with environmental justice concerns. Goal four will be accomplished through the following two objectives:

1. Staff will review and recommend improvements to policy or guidance that could reduce disparate environmental burden, increase access to benefits of Corps Civil Works programs for communities, and make it easier for affected communities to participate in the Corps processes that affect their built and natural environment. Further, Environmental Justice and Tribal subject matter experts should review Corps policies and guidance updates to ensure that updates will not disproportionately affect communities with environmental justice concerns.

2. Review and modify planning, budgeting, procurement, contracting, and other processes and decisions to focus resources to the maximum extent possible in Tribal and other communities or places that have the most environmental burdens, that would be the most affected by a particular agency action or decision, or are most in need to advance environmental justice.

F. Draft Environmental Justice Strategic Goal Five: Further Institutionalize Environmental Justice

Goal five of the Strategic Plan is to institutionalize environmental justice and Federal trust principles across the Corps throughout all operations and establish accountability for decisionmakers and practitioners as they apply these principles across agency activities, in the Army Civil Works program. Goal five will be accomplished through the following three objectives:

1. Learn how environmental justice and Tribal trust issues intersect with every functional or work area at the Corps and use findings to update Policy and Process Guidance referenced in Goal four.

2. Develop a structure that ensures all employees can both learn and be held accountable for advancing environmental justice and upholding the Federal trust responsibilities.

3. Create a feedback mechanism to update Senior Leaders on progress and challenges to implementing environmental justice strategies.

II. Accessing Documents and Additional Information

You may access information on the Corps' Environmental Justice program, and information on the Environmental Justice Strategic Plan update at the Corps' environmental justice website at https://www.usace.army.mil/Missions/Environmental-Justice/.

III. Stakeholder Engagement

The Corps poses a series of questions detailed in this notice for stakeholder input. These questions are only guideposts for comments. Input on all aspects of the Draft Environmental Justice Strategic Plan are welcome. Written input to the docket as well as verbal input during the virtual meetings are strongly encouraged. Verbal input received during the listening sessions will be considered equally to written comments.

1. Do the Draft Environmental Justice Strategic Plan vision, strategic goals, and objectives discussed in this notice address your interests and concerns about the advancement of environmental justice by the U.S. Army Corps of Engineers? Why or why not?

2. What actions should the U.S. Army Corps of Engineers undertake to advance environmental justice?

3. What performance measures or metrics should the U.S. Army Corps of Engineers establish to monitor progress towards advancing environmental justice?

IV. Public Meetings and Outreach

The Corps will hold a series of public virtual meetings intended to solicit input to inform its preparation of the Draft Environmental Justice Strategic Plan. At the virtual meeting, a brief presentation will be provided to give an overview of the Draft Environmental Justice Strategic Plan Vision, Goals and Objectives. The rest of the time is for participants to provide input. The introductory presentation in each virtual meeting will be recorded and posted on the Army Civil Works website and on the Corps' Environmental Justice website https://www.usace.army.mil/Missions/Environmental-Justice.

The Corps will hold 2 virtual meetings open to all stakeholders and an additional 1 virtual meeting specific for Tribal input. Registration information for the public and Tribal virtual meetings is included in this notice. Separate notification to Tribal leaders is also being provided.

Registration of members of the public who wish to attend the virtual meeting is required. Spots are limited and those unable to attend are encouraged to provide written comments to the docket which will be given equal consideration. Attendees will be asked to provide their name and contact information to include email address. Registration instructions can be found at the following website: https://www.usace.army.mil/Missions/Environmental-Justice.

Persons or organizations wishing to provide verbal input during the meetings will be selected on a first-come, first-serve basis. Due to the expected number of participants, individuals will be asked to limit their spoken presentation to three minutes. Once the speaking slots are filled, participants may be placed on a standby list to speak or continue to register to listen to the input. Supporting materials and written feedback from those who do not have an opportunity to speak can be submitted to the docket as described above. The schedule for the 3 virtual meetings is as follows:

Public Virtual Meetings

September 17, 2:00-3:30 p.m. ET: https://usace1.webex.com/weblink/register/r36c21ff92925df01db195f735ad21871.

September 19, 10:30-12:00 p.m. ET: https://usace1.webex.com/weblink/register/r0ff400b54abeffff21ee493b057e782d.

Tribal Virtual Meeting

Wednesday, September 18, 2024—2:00-3:30 p.m. ET: https://usace1.webex.com/weblink/register/r61e3be2c29453bf62518275359ee3dea.

Michael L. Connor,
Assistant Secretary of the Army (Civil Works).

[FR Doc. 2024-20678 Filed 9-11-24; 8:45 am]

BILLING CODE 3720-58-P